DEPARTMENT OF THE INTERIOR

Bureau of Land Management

[LLIDT03000-L14300000.EU0000; IDI-35159, IDI-16900]

Notice of Correction to Realty Action: Proposed Sale of Public Land, Idaho

AGENCY: Bureau of Land Management, Interior.

ACTION: Notice of correction.

SUMMARY: The Bureau of Land Management (BLM) published a notice in the Federal Register on March 3, 2009, pertaining to a direct sale of public land under the provisions of the Federal Land Policy Management Act of 1976. This document should have explicitly terminated any existing classifications and segregations.

FOR FURTHER INFORMATION CONTACT: Tara Hagen, Realty Specialist, BLM Shoshone Field Office, 400 West F Street, Shoshone, Idaho 83352 or phone at (208) 732-7205.

Correction: Replace the first sentence of the fourth paragraph of the “SUPPLEMENTARY INFORMATION” section found at 74 FR 9265, March 3, 2009 with:

SUPPLEMENTARY INFORMATION: On March 3, 2009, all existing segregations and classifications will be terminated, and the above-described land will be segregated from appropriation under the public land laws, including the mining laws, except the sale provisions of the FLPMA and the lands will be open to disposal under those provisions only.

Ruth A. Miller,
Shoshone Field Manager.

[FR Doc. 2010-9369 Filed 4-21-10; 8:45 am]

BILLING CODE 4310-GG-P